ENVIRONMENTAL PROTECTION AGENCY

[EPA-HQ-OPP-2022-0223; FRL-11548-01-OCSPP]

Chlorpyrifos; Amendment to Existing Stocks Provisions of Chlorpyrifos Cancellation Order for Certain Chlorpyrifos Products

AGENCY: Environmental Protection Agency (EPA).

ACTION: Notice.

SUMMARY: On August 31, 2022, EPA announced its final cancellation order for 16 chlorpyrifos products, voluntarily requested by the registrants and accepted by the Agency, pursuant to the Federal Insecticide, Fungicide, and Rodenticide Act (FIFRA). This notice amends the existing stocks terms of that cancellation order with respect to one product Liberty Chlorpyrifos 4E registered by Liberty Crop Protection, LLC, and its supplemental distributor product, Vesper, registered by Innvictis Crop Care, LLC (Innvictis).

ADDRESSES: The docket for this action, identified under docket identification (ID) number EPA-HQ-OPP-2022-0223, is available online at https://www.regulations.gov. Additional instructions on visiting the docket, along with more information about dockets generally, is available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

On August 31, 2022, EPA issued an order cancelling several chlorpyrifos products, including Liberty Chlorpyrifos 4E (EPA Reg. No. 89168-24). See 87 FR 53471 (August 31, 2022) (FRL-10138-01-OCSPP). The provisions for disposition of existing stocks laid out in Unit IV of that cancellation order prohibited all sale, distribution, and use of the cancelled chlorpyrifos products, “except for export consistent with FIFRA section 17, 7 U.S.C. 136o or for proper disposal.” These terms also apply to Vesper (EPA Reg. No. 89168-24-89391), which is a supplemental distributor product of Liberty Chlorpyrifos 4E. See 40 CFR 152.132(e).

Since that time, Adama has developed a return program agreement with EPA that facilitates the return of certain chlorpyrifos products to Adama. See Cancellation Order for Certain Chlorpyrifos Uses and Registrations, 88 FR 28541 (May 4, 2023) (FRL-10924-01-OCSPP). Adama has requested that EPA allow them to accept returns of existing stocks of Liberty Chlorpyrifos 4E (EPA Reg. No. 89168-24) and its supplemental distributor product, Vesper (EPA Reg. No. 89168-24-89391). To allow for the legal and orderly disposition of those products, EPA is amending the August 31, 2022 cancellation order to allow distribution of Liberty Chlorpyrifos 4E (EPA Reg. No. 89168-24), including its supplemental distributor product Vesper (EPA Reg. No. 89168-24-89391), consistent with the terms of Adama's revised return program agreement.

III. Provisions for Disposition of Existing Stocks and Returning Products to Adama

Adama previously requested, and EPA approved, the return of existing stocks of its own registrations that are in the hands of end users and distributors. At this time, the Agency is also allowing Adama to accept existing stocks of Liberty Chlorpyrifos 4E (EPA Reg. No. 89168-24) and Vesper (EPA Reg. No. 89168-24-89391). Existing stocks are those stocks of registered pesticide products that were (and still are) in the United States and packaged, labeled, and released for shipment prior to August 31, 2022.

The Liberty Chlorpyrifos 4E product and the Vesper product are only registered for use on food crops; therefore, use of existing stocks continue to be prohibited. Moreover, because sale and distribution of chlorpyrifos products for use on food and feed is inconsistent with the purposes of FIFRA, all sale and distribution of the Liberty Chlorpyrifos 4E product and the Vesper product discussed herein is prohibited, except for export consistent with FIFRA section 17 (7 U.S.C. 136o); proper disposal; or distribution consistent with the terms of the individual return program agreement EPA has approved for Adama. Adama's revised return program agreement was approved by the Agency on October 31, 2023. Adama was notified of the approval of their return program agreements on October 31, 2023.

Additional information regarding the revised chlorpyrifos return programs for Adama may be found in https://www.regulations.gov/docket/EPA-HQ-OPP-2021-0523 and/or https://www.regulations.gov/docket/EPA-HQ-OPP-2022-0223 or by contacting the registrants at Liberty and Innvictis (208) 296-1503 and Adama (866) 406-6262; ordergroup@adama.com.

Dated: November 8, 2023.
Mary Elissa Reaves,
Director, Pesticide Re-Evaluation Division, Office of Pesticide Programs.

[FR Doc. 2023-26438 Filed 11-30-23; 8:45 am]

BILLING CODE 6560-50-P